DEPARTMENT OF ENERGY

Federal Energy Regulatory Commission

Combined Notice of Filings #1

Take notice that the Commission received the following electric corporate filings:

Docket Numbers: EC15-101-000.

Applicants: American Transmission Company LLC.

Description: Clarifying Non-Substantive Amendment to March 23, 2015 Application for Authority to Acquire Transmission Facilities Under Section 203 of the FPA of American Transmission Company LLC.

Filed Date: 4/9/15.

Accession Number: 20150409-5209.

Comments Due: 5 p.m. ET 4/20/15.

Docket Numbers: EC15-120-000.

Applicants: Sierra Solar Greenworks LLC.

Description: Application for Authorization Under Section 203 of the Federal Power Act, Request for Expedited Consideration and Confidential Treatment.

Filed Date: 4/10/15.

Accession Number: 20150410-5300.

Comments Due: 5 p.m. ET 5/1/15.

Take notice that the Commission received the following electric rate filings:

Docket Numbers: ER15-623-001.

Applicants: PJM Interconnection, L.L.C.

Description: Tariff Amendment per 35.17(b): Response to Deficiency Letter in ER15-623, to be effective 4/1/2015.

Filed Date: 4/10/15.

Accession Number: 20150410-5277.

Comments Due: 5 p.m. ET 4/24/15.

Docket Numbers: ER15-929-003.

Applicants: Southwest Power Pool, Inc.

Description: Tariff Amendment per 35.17(b): Amendment to Oklahoma Municipal Power Authority Revised Stated Rate in ER15-929 to be effective 4/1/2015.

Filed Date: 4/10/15.

Accession Number: 20150410-5282.

Comments Due: 5 p.m. ET 5/1/15.

Docket Numbers: ER15-943-001.

Applicants: Midcontinent Independent System Operator, Inc.

Description: Compliance filing per 35: 2015-04-13_SA 6502 Illinois Power-Edwards SSR Renewal Compliance Filing to be effective 1/1/2015.

Filed Date: 4/13/15.

Accession Number: 20150413-5165.

Comments Due: 5 p.m. ET 5/4/15.

Docket Numbers: ER15-1496-000.

Applicants: 2014 ESA Project Company, LLC.

Description: Initial rate filing per 35.12 2014 ESA Project Company, LLC—MBR Filing to be effective 4/13/2015.

Filed Date: 4/13/15.

Accession Number: 20150413-5063.

Comments Due: 5 p.m. ET 5/4/15.

Docket Numbers: ER15-1497-000.

Applicants: Southern California Edison Company.

Description: Section 205(d) rate filing per 35.13(a)(2)(iii): Boomer Solar LLC 5 GIAs and SAs to be effective 4/14/2015.

Filed Date: 4/13/15.

Accession Number: 20150413-5221.

Comments Due: 5 p.m. ET 5/4/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 13, 2015.
Nathaniel J. Davis, Sr.,
Deputy Secretary.

[FR Doc. 2015-08952 Filed 4-17-15; 8:45 am]

BILLING CODE 6717-01-P